DEPARTMENT OF COMMERCE

Foreign-Trade Zones Board

[Docket 38-2006]

Foreign-Trade Zone 214, Lenoir County, North Carolina; Application for Subzone Status; NACCO Materials Handling Group, Inc., Plant (Forklift Trucks); Amendment of Application: Additional Site

Notice is hereby given that the application by the North Carolina Global TransPark Authority, grantee of FTZ 214, requesting special-purpose subzone status for the forklift truck manufacturing facility of NACCO Materials Handling Group, Inc. (NMHG), located in Greenville, North Carolina (71 FR 54612, 9-18-2006), has been amended to include an additional site (2 warehouses/229,944 sq.ft./51.3 acres) comprised of Building 41 and Building 44 located at 1029A Old Creek Road in Greenville.

Public comment is invited from interested parties. The comment period is hereby reopened until August 13, 2007. Submissions (original and 3 copies) shall be addressed to the Board's Executive Secretary at the address below.

A copy of the application and the amendment is available for public inspection at each of the following locations: U.S. Department of Commerce Export Assistance Center, Suite 110, 10900 World Trade Boulevard, Raleigh, North Carolina 27617; and, Office of the Executive Secretary, Foreign-Trade Zones Board, Room 2111, U.S. Department of Commerce, 1401 Constitution Avenue, NW., Washington, District of Columbia 20230-0002. For further information, contact Pierre Duy, examiner, at: pierre_duy@ita.doc.gov., or (202) 482-1378.

Dated: July 2, 2007.
Pierre V. Duy,
Acting Executive Secretary.

[FR Doc. E7-13657 Filed 7-12-07; 8:45 am]

BILLING CODE 3510-DS-S